DEPARTMENT OF TRANSPORTATION

Federal Aviation Administration

14 CFR Part 39

[Docket No. FAA-2016-0183; Directorate Identifier 2015-SW-016-AD]

RIN 2120-AA64

Airworthiness Directives; Kaman Aerospace Corporation

AGENCY: Federal Aviation Administration (FAA), DOT.

ACTION: Notice of proposed rulemaking (NPRM).

SUMMARY: We propose to adopt a new airworthiness directive (AD) for Kaman Aerospace Corporation (Kaman) Model K-1200 helicopters. This proposed AD would require revising the “Flight Limitations—NO LOAD” and “Flight Limitations—LOAD” sections of the rotorcraft flight manual (RFM). This proposed AD is prompted by a report of certain flight maneuvers that may lead to main rotor (M/R) blade to opposing hub contact. The proposed actions are intended to prevent damage to the M/R flight controls and subsequent loss of control of the helicopter.

DATES: We must receive comments on this proposed AD by March 21, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-0183; or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed rule, contact Kaman Aerospace Corporation, Old Windsor Rd., P.O. Box 2, Bloomfield, Connecticut 06002-0002; telephone (860) 242-4461; fax (860) 243-7047; or at http://www.kamanaero.com. You may review the referenced service information at the FAA, Office of the Regional Counsel, Southwest Region, 10101 Hillwood Pkwy, Room 6N-321, Fort Worth, TX 76177.

FOR FURTHER INFORMATION CONTACT: Kirk Gustafson, Aviation Safety Engineer, Boston Aircraft Certification Office, Engine & Propeller Directorate, FAA, 12 New England Executive Park, Burlington, Massachusetts 01803; telephone (781) 238-7190; email kirk.gustafson@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We propose to adopt a new AD for Kaman Model K-1200 helicopters. This proposed AD would require revising the “Flight Limitations—NO LOAD” and “Flight Limitations—LOAD” sections of the RFM by inserting a warning and limitations about rearward to forward flight, establishing maximum rearward and sideward flight speeds, and prohibiting weather-vanning takeoffs and departures to turn the helicopter. This proposed AD is prompted by a report of a Model K1200 helicopter turning suddenly and causing blade contact with the hub. The report suggests that a rapid aircraft yaw rate and subsequent yaw arresting maneuver may cause low clearance of the M/R blades with the opposing M/R hub. This condition could cause an M/R blade to strike the opposing rotor's flight controls. The proposed actions are intended to prevent damage to the M/R flight controls and subsequent loss of control of the helicopter.

FAA's Determination

We are proposing this AD because we evaluated all known relevant information and determined that an unsafe condition exists and is likely to exist or develop on other products of the same type design.

Related Service Information

We reviewed Kaman K-1200 RFM, Revision 5, dated April 14, 2015. This revision of the limitations section of the RFM inserts, for both load operations and no load operations, a warning and limitations about departing from rearward to forward flight, a maximum rearward flight speed of 25 knots, a maximum sideward flight speed of 17 knots, and a prohibition on weather-vanning takeoffs and departures as a method to turn aircraft.

Proposed AD Requirements

This proposed AD would require, within 10 hours time-in-service, revising the Limitations section of the RFM by inserting a copy of this AD or by making pen-and-ink changes. This proposed AD, under “Flight Limitations—NO LOAD” and “Flight Limitations—LOAD,” would insert a warning and limitations about departing from rearward to forward flight to avoid high rates of turn and minimize yaw and cyclic control inputs, establish a maximum rearward flight speed of 25 knots, establish a maximum sideward flight speed of 17 knots, and prohibit weather-vanning takeoffs and departures as a method to turn the helicopter.

Costs of Compliance

We estimate that this proposed AD would affect 16 helicopters of U.S. Registry. We estimate that operators may incur the following costs in order to comply with this AD. At an average labor rate of $85 per work-hour, we expect revising the RFM would require 0.5 work-hour, for cost of about $43 per helicopter, or $688 for the U.S. fleet.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Kaman Aerospace Corporation (Kaman): Docket No. FAA-2016-0183; Directorate Identifier 2015-SW-016-AD.

(a) Applicability

This AD applies to Model K-1200 helicopters, certificated in any category.

(b) Unsafe Condition

This AD defines the unsafe condition as a main rotor (M/R) blade striking the opposing rotor's flight controls. This condition could result in damage to the M/R flight controls and subsequent loss of control of the helicopter.

(c) Comments Due Date

We must receive comments by March 21, 2016.

(d) Compliance

You are responsible for performing each action required by this AD within the specified compliance time unless it has already been accomplished prior to that time.

(e) Required Actions

Within 10 hours time-in-service, revise Section 2 Limitations of the Kaman K-1200 Rotorcraft Flight Manual (RFM) by inserting a copy of this AD into the RFM or by making pen-and-ink changes, as follows:

(1) In the “Flight Limitations—NO LOAD” and “Flight Limitations—WITH LOAD,” sections, add the information in Figure 1 to paragraph (e)(1) of this AD.

WARNING
When departing from rearward to forward flight, avoid high rates of turn and minimize yaw and cyclic control inputs to prevent exceeding 17 knot sideward flight limit.
Figure 1 to paragraph (e)(1).

(2) In the “Flight Limitations—NO LOAD” and “Flight Limitations—WITH LOAD” sections, add the following: Maximum rearward flight speed: 25 knots. Maximum sideward flight speed: 17 knots. Weather—vanning takeoffs/departures as a method to turn aircraft: Prohibited.

(f) Credit for Actions Previously Completed

Incorporating the changes contained in Kaman K-1200 RFM, Revision 5, dated April 14, 2015, before the effective date of this AD is considered acceptable for compliance with the corresponding actions specified in paragraph (e) of this AD.

(g) Alternative Methods of Compliance (AMOC)

(1) The Manager, Boston Aircraft Certification Office, FAA, may approve AMOCs for this AD. Send your proposal to: Kirk Gustafson, Aviation Safety Engineer, Boston Aircraft Certification Office, Engine & Propeller Directorate, FAA, 12 New England Executive Park, Burlington, Massachusetts 01803; telephone (781) 238-7190; email kirk.gustafson@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Subject

Joint Aircraft Service Component (JASC) Code: 6710, Main Rotor Control.

Issued in Fort Worth, Texas, on January 12, 2016.
Lance T. Gant,
Manager, Rotorcraft Directorate, Aircraft Certification Service.

[FR Doc. 2016-00947 Filed 1-20-16; 8:45 am]

BILLING CODE 4910-13-P